DEPARTMENT OF TRANSPORTATION

Federal Aviation Administration

14 CFR Part 39

[Docket No. FAA-2004-18786; Directorate Identifier 2004-NM-26-AD; Amendment 39-13947; AD 2005-02-02]

RIN 2120-AA64

Airworthiness Directives; Boeing Model 767-200, -300, and -300F Series Airplanes

AGENCY: Federal Aviation Administration (FAA), Department of Transportation (DOT).

ACTION: Final rule.

SUMMARY: The FAA is adopting a new airworthiness directive (AD) for certain Boeing Model 767-200, -300, and -300F series airplanes. This AD requires repetitive high frequency eddy current inspections and detailed inspections of the left and right butt line (BL) 25 vertical chords for cracks, and corrective actions if necessary. This AD is prompted by findings of cracks in the fillet radii of the left and right BL 25 vertical chords common to the nose wheel well bulkhead at station 287. We are issuing this AD to detect and correct cracks in the left and right BL 25 vertical chords, which could grow downward into a critical area that serves as a primary load path for the nose landing gear (NLG) and result in the collapse of the NLG during landing.

DATES: This AD becomes effective March 1, 2005.

The incorporation by reference of a certain publication listed in the AD is approved by the Director of the Federal Register as of March 1, 2005.

ADDRESSES: For service information identified in this AD, contact Boeing Commercial Airplanes, P.O. Box 3707, Seattle, Washington 98124-2207. You can examine this information at the National Archives and Records Administration (NARA). For information on the availability of this material at NARA, call (202) 741-6030, or go to: http://www.archives.gov/federal_register/code_of_federal_regulations/ibr_locations.html.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., Room PL-401, Washington, DC. This docket number is FAA-2004-18786; the directorate identifier for this docket is 2004-NM-26-AD.

FOR FURTHER INFORMATION CONTACT: Technical information: Suzanne Masterson, Aerospace Engineer, Airframe Branch, ANM-120S, FAA, Seattle Aircraft Certification Office, 1601 Lind Avenue, SW., Renton, Washington 98055-4056; telephone (425) 917-6441; fax (425) 917-6590.

Plain language information: Marcia Walters, marcia.walters@faa.gov.

SUPPLEMENTARY INFORMATION: The FAA proposed to amend 14 CFR part 39 with an AD for certain Boeing Model 767-200, -300, and -300F series airplanes. That action, published in the Federal Register on August 6, 2004 (69 FR 47804), proposed to require repetitive high frequency eddy current inspections and detailed inspections of the left and right butt line (BL) 25 vertical chords for cracks, and corrective actions if necessary.

Comments

We provided the public the opportunity to participate in the development of this AD. We have considered the comments that have been submitted on the proposed AD.

Request To Include the Line Numbers of the Affected Airplanes in the Applicability

One commenter, the manufacturer, requests that we include the line numbers of the affected airplanes in the applicability of this AD. The commenter states that including this information (line numbers 1 through 757 inclusive) will help operators quickly identify the airplanes affected by this AD.

While we agree with the intent of the request, we do not agree that the line numbers should be included in the applicability of the final rule. Although the commenter has provided the correct line numbers for the affected airplanes in this AD, we have determined, in coordination with the manufacturer, that we should use the manufacturer-assigned, variable numbers in the applicability of an AD. In the past, using line numbers has caused errors in the effectivity of the service bulletin, and consequently in the applicability of the AD, because the manufacturer's database generates the list of affected airplanes by variable number. To eliminate these errors and the additional work in revising a service bulletin, the manufacturer has chosen to identify affected airplanes by variable number in future service bulletins. We anticipate this will also save time and work for operators and us because fewer ADs will be superseded for applicability errors. Therefore, no change to this AD is necessary in this regard.

Request To Update the Discussion Section

The same commenter also requests that we update the Discussion section of the proposed AD. The commenter states that, since issuance of the proposed AD, three operators have also reported finding cracks on the vertical chords of one Boeing Model 767-200 series airplane and several Model 767-300 series airplanes.

We do not agree with the request, since the Discussion section of a proposed AD is not included in a final rule. We thank the commenter for the information, but no change is necessary to this final rule.

Explanation of Change to This AD

Boeing has received a Delegation Option Authorization (DOA). We have revised this final rule to delegate the authority to approve an alternative method of compliance for any repair required by this AD to the Authorized Representative for the Boeing DOA Organization rather than the Designated Engineering Representative (DER).

Conclusion

We have carefully reviewed the available data, including the comments that have been submitted, and determined that air safety and the public interest require adopting the AD with the change described previously. We have determined that these changes will neither increase the economic burden on any operator nor increase the scope of the AD.

Costs of Compliance

This AD affects about 743 airplanes worldwide and 312 airplanes of U.S. registry. The required actions take about 8 work hours per airplane, at an average labor rate of $65 per work hour. No parts are required. Based on these figures, the estimated cost of the AD for U.S. operators is $162,240, or $520 per airplane, per inspection cycle.

Authority for This Rulemaking

The FAA's authority to issue rules regarding aviation safety is found in title 49 of the United States Code. Subtitle I, section 106 describes the authority of the FAA Administrator. Subtitle VII, Aviation Programs, describes in more detail the scope of the agency's authority.

This rulemaking is promulgated under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the National Government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-02-02 Boeing: Amendment 39-13947. Docket No. FAA-2004-18786; Directorate Identifier 2004-NM-26-AD.

Effective Date

(a) This AD becomes effective March 1, 2005.

Affected ADs

(b) None.

Applicability

(c) This AD applies to Boeing Model 767-200, -300, and -300F series airplanes, certificated in any category; as listed in Boeing Alert Service Bulletin 767-53A0113, dated February 26, 2004.

Unsafe Condition

(d) This AD was prompted by findings of cracks in the fillet radii of the left and right butt line (BL) 25 vertical chords common to the nose wheel well bulkhead at station 287. We are issuing this AD to detect and correct cracks in the left and right BL 25 vertical chords, which could grow downward into a critical area that serves as a primary load path for the nose landing gear (NLG) and result in the collapse of the NLG during landing.

Compliance

(e) You are responsible for having the actions required by this AD performed within the compliance times specified, unless the actions have already been done.

Service Bulletin Reference

(f) The term “service bulletin,” as used in this AD, means the Accomplishment Instructions of Boeing Alert Service Bulletin 767-53A0113, dated February 26, 2004.

Initial Inspections

(g) At the later of the compliance times specified in paragraphs (g)(1) and (g)(2) of this AD: Do a high frequency eddy current inspection and a detailed inspection of the left and right BL 25 vertical chords common to the nose wheel well bulkhead at station 287 for cracks, in accordance with the service bulletin.

(1) Within 72 months since the date of issuance of the original Airworthiness Certificate or the date of issuance of the original Export Certificate of Airworthiness.

(2) Within 18 months after the effective date of this AD.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

No Cracks Found

(h) For any BL 25 vertical chord in which no crack is found during any inspection required by paragraph (g) of this AD: Thereafter at intervals not to exceed 48 months, repeat the inspections required by paragraph (g) of this AD for any BL 25 vertical chord that has not been repaired according to paragraph (i) or (j) of this AD.

Cracks Found: Extending Below Water Line (WL) 159

(i) If any crack is found on any BL 25 vertical chord during any inspection required by paragraph (g) or (h) of this AD, and the crack extends below WL 159: Before further flight, repair according to a method approved by the Manager, Seattle Aircraft Certification Office (ACO), FAA; or according to data meeting the certification basis of the airplane approved by an Authorized Representative for the Boeing Delegation Option Authorization Organization who has been authorized by the Manager, Seattle ACO, to make those findings. For a repair method to be approved, the approval must specifically reference this AD.

Cracks Found: Not Extending Below WL 159

(j) If any crack is found in any BL 25 vertical chord during any inspection required by paragraph (g) or (h) of this AD, and the crack does not extend below WL 159: Before further flight, repair any damaged BL 25 vertical chord in accordance with the service bulletin.

Repaired BL 25 Vertical Chords

(k) Repair of any BL 25 vertical chord in accordance with paragraph (i) or (j) of this AD, as applicable, terminates the repetitive inspections required by paragraph (h) of this AD for the repaired vertical chord only. If both the left and right BL 25 vertical chords are repaired as required by paragraph (i) or (j) of this AD, as applicable, no more work is required by this AD.

Alternative Methods of Compliance (AMOCs)

(l)(1) The Manager, Seattle Aircraft Certification Office (ACO), FAA, has the authority to approve AMOCs for this AD, if requested using the procedures found in 14 CFR 39.19.

(2) An AMOC that provides an acceptable level of safety may be used for any repair required by this AD, if it is approved by an Authorized Representative for the Boeing Delegation Option Authorization Organization who has been authorized by the Manager, Seattle ACO, to make those findings.

Material Incorporated by Reference

(m) You must use Boeing Alert Service Bulletin 767-53A0113, dated February 26, 2004, to perform the actions that are required by this AD, unless the AD specifies otherwise. The Director of the Federal Register approves the incorporation by reference of this document in accordance with 5 U.S.C. 552(a) and 1 CFR part 51. For copies of the service information, contact Boeing Commercial Airplanes, P.O. Box 3707, Seattle, Washington 98124-2207. For information on the availability of this material at the National Archives and Records Administration (NARA), call (202) 741-6030, or go to http://www.archives.gov/federal_register/code_of_federal_regulations/ibr_locations.html.

You may view the AD docket at the Docket Management Facility, U.S. Department of Transportation, 400 Seventh Street SW., Room PL-401, Nassif Building, Washington, DC.

Issued in Renton, Washington, on January 12, 2005.
Ali Bahrami,
Manager, Transport Airplane Directorate, Aircraft Certification Service.

[FR Doc. 05-1207 Filed 1-24-05; 8:45 am]

BILLING CODE 4910-13-P